EXPORT-IMPORT BANK

[Public Notice: 2024-6098]

Agency Information Collection Activities: Submission to the Office of Management and Budget for Review and Approval; Comment Request; EIB 84-01 Application for Export Working Capital Guarantee

AGENCY: Export-Import Bank of the United States.

ACTION: Notice of information collection; request for comment.

SUMMARY: The Export-Import Bank of the United States (EXIM), pursuant to the Export-Import Bank Act of 1945, as amended, facilitates the finance of the export of U.S. goods and services. As part of its continuing effort to reduce paperwork and respondent burden, EXIM invites the general public and other Federal Agencies to comment on the proposed information collection, as required by the paperwork Reduction Act of 1995.

DATES: Comments must be received on or before January 6, 2025 to be assured of consideration.

ADDRESSES: Comments may be submitted electronically on WWW.REGULATIONS.GOV (EIB 84-01), by email smaro.karakatsanis@exim.gov, or by mail to Smaro Karakatsanis, Export-Import Bank of the United States, 811 Vermont Ave. NW, Washington, DC. The application tool can be reviewed at: https://img.exim.gov/s3fs-public/pub/pending/EIB+84-01+EXIM_WCGP_Application.pdf.

FOR FURTHER INFORMATION CONTACT: To request additional information, please contact Smaro Karakatsanis, smaro.karakatsanis@exim.gov, 202-565-3655.

SUPPLEMENTARY INFORMATION:

Title and Form Number: EIB 84-01, Application for Export Working Capital Guarantee.

OMB Number: 3048-0003.

Type of Review: Regular.

Need and Use: This form provides EXIM staff with the information necessary to determine if the application and transaction is eligible for EXIM assistance under their export working capital guarantee program.

Affected Public: This form affects entities involved in the export of U.S. goods and services.

Annual Number of Respondents: 150.

Estimated Time per Respondent: 2 hours.

Annual Burden Hours: 300 hours.

Frequency of Reporting of Use: Annually.

Dated: October 30, 2024.
Andrew Smith,
Records Officer.

[FR Doc. 2024-25619 Filed 11-4-24; 8:45 am]

BILLING CODE 6690-01-P